DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act. The Secretary of Labor established the Committee on September 15, 2014 in accordance with the provisions of the Federal Advisory Committee Act, as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act of 1938 (29 U.S.C. 214(c)); and (3) ways to improve oversight of the use of such certificates.

The Committee is required to meet no less than eight times. It is also required to submit a final report to: The Secretary of Labor; the Senate Committee on Health, Education, Labor and Pensions; and the House Committee on Education and the Workforce by September 15, 2016. The Committee terminates one day after the submission of the final report.

The next meeting of the Committee will take place on Wednesday, April 27, 2016, and Thursday, April 28, 2016. The meeting will be open to the public on Wednesday, April 27th from 8:30 a.m. to 5:00 p.m. Eastern Daylight Time (EDT). On Thursday, April 28th, the meeting will be open to the public from 8:00 a.m. to 4:00 p.m. EDT. The meeting will take place at the U.S. Access Board, 1331 F Street NW., Suite 800, Washington, DC 20004-1111.

On April 27th and 28th, the four subcommittees of the Committee will report out on their work since the last meeting of the Committee. The four subcommittees are: The Transition to Careers Subcommittee, the Complexity and Needs in Delivering Competitive Integrated Employment Subcommittee, the Marketplace Dynamics Subcommittee, and the Building State and Local Capacity Subcommittee. Each subcommittee will have 30 minutes to present its most recent work for full discussion by the Committee.

In addition, the entire Committee will also discuss recommendations regarding the AbilityOne® program. Also, the Committee will consider recommendations regarding the certificate program under section 14(c) of the Fair Labor Standards Act (FLSA). The whole Committee will also discuss next steps and timelines for the final report.

During the meeting, an expert panel will present on the Pathways to Careers program. The Committee will also discuss the use and oversight of certificates under section 14(c) of the FLSA with Committee member Dr. David Weil, the Administrator of the Wage and Hour Division.

Members of the public who wish to address the Committee on the final report or other Committee related matters during the public comment period of the meeting on Wednesday, April 27th between 2:45 p.m. and 3:45 p.m., EDT, should send their name, their organization's name (if applicable) and any additional materials (such as a copy of the proposed testimony) to David Berthiaume at Berthiaume.David.A@dol.gov or call Mr. Berthiaume at (202) 693-7887 by Friday, April 15th. Members of the public will have the option of addressing the Committee in person or remotely by phone. If the Committee receives more requests than we can accommodate during the public comment portion of the meeting, we will select a representative sample to speak and the remainder will be permitted to file written statements. Individuals with disabilities who need accommodations should also contact Mr. Berthiaume at the email address or phone number above.

Organizations or members of the public wishing to submit comments and feedback on the interim report or general feedback may do so by using the form found at: www.acicieid.org/comments. All comments received prior to April 15, 2016, will be forwarded to the Committee in advance of the April meeting. Members of the public may also submit comments in writing on or before April 15, 2016, to David Berthiaume, Advisory Committee on Increasing Competitive Integrated Employment for Individuals with Disabilities, U.S. Department of Labor, Suite S-1303, 200 Constitution Avenue NW., Washington, DC 20210. Please ensure that any written submission is in an accessible format or the submission will be returned. Written statements deemed relevant by the Committee and received on or before April 15, 2016, will be included in the record of the meeting. Do not include any personally identifiable information (such as name, address, or other contact information) or confidential business information that you do not want publicly disclosed.

Jennifer Sheehy,
Deputy Assistant Secretary, Office of Disability Employment Policy.

[FR Doc. 2016-05945 Filed 3-15-16; 8:45 am]

BILLING CODE 4510-FK-P